DEPARTMENT OF HOMELAND SECURITY

Federal Emergency Management Agency

44 CFR Part 65

Changes in Flood Elevation Determinations

AGENCY: Federal Emergency Management Agency (FEMA), Department of Homeland Security.

ACTION: Final rule.

SUMMARY: Modified Base (1% annual-chance) Flood Elevations (BFEs) are finalized for the communities listed below. These modified elevations will be used to calculate flood insurance premium rates for new buildings and their contents.

DATES: The effective dates for these modified BFEs are indicated on the table below and revise the Flood Insurance Rate Maps (FIRMs) in effect for the listed communities prior to this date.

ADDRESSES: The modified BFEs for each community are available for inspection at the office of the Chief Executive Officer of each community. The respective addresses are listed in the table below.

FOR FURTHER INFORMATION CONTACT: Doug Bellomo, P.E., Hazard Identification Section, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director has resolved any appeals resulting from this notification.

The modified BFEs are not listed for each community in this notice. However, this rule includes the address of the Chief Executive Officer of the community where the modified BFE determinations are available for inspection.

The modifications are made pursuant to Section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings.

The changes in BFEs are in accordance with 44 CFR 65.4.

National Environmental Policy Act. This rule is categorically excluded from the requirements of 44 CFR part 10, Environmental Consideration. No environmental impact assessment has been prepared.

Regulatory Flexibility Act. The Mitigation Division Director certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This final rule is not a significant regulatory action under the criteria of Section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and names of newspaper where notice was published | Chief executive officer of community | Effective date of modification | Community No.
New Mexico: Dona Ana, (Case No. 04-06-857P), (FEMA Docket No. P-7644) | City of Las Cruces | May 4, 2005, May 11, 2005, Las Cruces Sun News | The Honorable William Mattiace, Mayor, City of Las Cruces, Post Office Box 20000, Las Cruces, New Mexico 88004 | April 21, 2005 | 355332
Texas:
Denton, (Case No. 04-06-1465P), (FEMA Docket No. P-7644) | Town of Bartonville | May 9, 2005, May 16, 2005, Denton Record Chronicle | The Honorable Ron Robertson, Mayor, Town of Bartonville, 1941 East Jeter Road, Bartonville, Texas 76226 | April 22, 2005 | 481501
Dallas, (Case No. 04-06-673P), (FEMA Docket No. P-7644) | City of Dallas | May 5, 2005, May 12, 2005, Dallas Morning News | The Honorable Laura Miller, Mayor, City of Dallas, Dallas City Hall, 1500 Marilla Street, Room 5EN, Dallas, Texas 75201-6390 | August 11, 2005 | 480171
Denton, (Case No. 04-06-1465P), (FEMA Docket No. P-7644) | Unincorporated Areas | May 9, 2005, May 16, 2005, Denton Record Chronicle | The Honorable Mary Horn, Judge, Denton County, 110 West Hickory Street, 2nd Floor, Denton, Texas 76201 | April 22, 2005 | 480774
Fort Bend, (Case No. 04-06-380P), (FEMA Docket No. P-7644) | Unincorporated Areas | May 4, 2005, May 11, 2005, Fort Bend Star | The Honorable Robert E. Hebert, Judge, Fort Bend County, 301 Jackson Street, Richmond, Texas 77469 | August 10, 2005 | 480228
Collin, (Case No. 04-06-673P), (FEMA Docket No. P-7644) | City of Plano | May 5, 2005, May 12, 2005, Plano Star Courier | The Honorable Pat Evans, Mayor, City of Plano, Post Office Box 860358, Plano, Texas 75086 | August 11, 2005 | 480140
Fort Bend, (Case No. 04-06-380P), (FEMA Docket No. P-7644) | Willow Fork Drainage District | May 4, 2005, May 11, 2005, The Katy Times | The Honorable Larry J. Mueller, Willow Fork Drainage District, c/o Allen, Boone & Humphries, LLP, 3200 Southwest Freeway, 26th Floor, Houston, Texas 77027 | August 10, 2005 | 481603

(Catalog of Federal Domestic Assistance No. 83.100, “Flood Insurance”)

Dated: January 9, 2006.
David I. Maurstad,
Acting Director, Mitigation Division, Federal Emergency Management Agency, Department of Homeland Security.

[FR Doc. 06-1343 Filed 2-13-06; 8:45 am]

BILLING CODE 9110-12-P